ENVIRONMENTAL PROTECTION AGENCY

40 CFR Parts 51 and 81

[FRL-7947-4]

Identification of Ozone Areas for Which the 1-Hour Standard Has Been Revoked and Technical Correction to Phase 1 Rule

AGENCY: Environmental Protection Agency (EPA).

ACTION: Final rule.

SUMMARY: On April 30, 2004, EPA published the first phase of its final rule to implement the 8-Hour Ozone National Ambient Air Quality Standard (NAAQS) (Phase 1 Rule). At that same time, EPA also published 8-hour ozone designations for all areas of the country. For most areas, the 8-hour ozone designations became effective on June 15, 2004. The Phase 1 Rule provided that the 1-hour ozone NAAQS would no longer apply (i.e., would be revoked) for an area 1 year following the effective date of the area's designation for the 8-hour ozone NAAQS. This rule codifies the revocation of the 1-hour standard for those areas with effective 8-hour ozone designations. Because the Phase 1 Rule, as modified in a recent reconsideration rule, also provided that certain 1-hour nonattainment and maintenance obligations that applied as of the effective date of designation for the 8-hour NAAQS remain in place for an area, we are retaining the tables in 40 CFR part 81 that identify each area's 1-hour designation and classification status as of the effective date of the 8-hour designation for the area. The regulatory changes do not modify the tables for Early Action Compact areas for which the 1-hour NAAQS continues to apply. In addition, today's rule makes a technical correction to the last sentence in 40 CFR 51.905(c)(1) to reference 40 CFR part 81, subpart C as identifying the boundaries of areas and the area designations and classifications for the 1-hour ozone NAAQS that were in place as of the effective date of designation of the area for the 8-hour NAAQS. This rule eliminates the reservation of subpart E of part 81 for the above identification purpose.

DATES: This final rule is effective September 2, 2005.

ADDRESSES: The EPA has established a docket for this action under Docket ID No. OAR-2003-0079. All documents in the docket are listed in the EDOCKET index at http://www.epa.gov/edocket. Although listed in the index, some information is not publicly available, i.e., Confidential Business Information or other information whose disclosure is restricted by statute. Certain other material, such as copyrighted material, is not placed on the Internet and will be publicly available only in hard copy form. Publicly available docket materials are available either electronically in EDOCKET or in hard copy at the EPA Docket Center (Air Docket), EPA/DC, EPA West, Room B102, 1301 Constitution Ave., NW., Washington, DC. The Public Reading Room is open from 8:30 a.m. to 4:30 p.m., Monday through Friday, excluding legal holidays. The telephone number for the Public Reading Room is (202) 566-1744, and the telephone number for the Office of Air and Radiation Docket and Information Center is (202) 566-1742.

FOR FURTHER INFORMATION CONTACT: Annie Nikbakht, Office of Air Quality Planning and Standards, U.S. Environmental Protection Agency, Mail Code C539-02, Research Triangle Park, NC 27711, phone number (919) 541-5246, fax number (919) 541-0824 or by e-mail at nikbakht.annie@epa.gov.

SUPPLEMENTARY INFORMATION:

Outline

I. Background

II. What Is the Purpose of This Rule?

III. What Happens to Subparts C and E of Part 81?

IV. Statutory and Executive Order Reviews

I. Background

On April 30, 2004, EPA took final action on key elements of the program to implement the 8-hour ozone (NAAQS or standard) (Final Rule to Implement the 8-Hour Ozone National Ambient Air Quality Standard—Phase 1) (69 FR 23951) (Phase 1 Rule). In the Phase 1 Rule, EPA established regulatory provisions governing when the 1-hour NAAQS would no longer apply to areas (i.e., would be revoked) (40 CFR 50.9(b)) and promulgated “anti-backsliding” provisions that provided which 1-hour ozone control obligations would continue to apply in areas that were designated nonattainment or attainment subject to a maintenance plan for the 1-hour standard as of the effective date of the area's 8-hour ozone designation (40 CFR 51.905). The Phase 1 Rule provided that the 1-hour control obligations that continue to apply be the control obligations required as of the date of signature on the Phase 1 Rule (i.e., April 15, 2004). In response to a Petition for Reconsideration (May 26, 2005, 70 FR 30592), EPA reconsidered this issue and changed that date to the effective date of an area's 8-hour ozone designation (i.e., for most areas, June 15, 2004).

On April 30, 2004, EPA also published air quality designations and classifications for every area in the United States, including Indian country, for the 8-hour ozone NAAQS (Air Quality Designations and Classifications for the 8-Hour Ozone National Ambient Air Quality Standards; Early Action Compact Areas With Deferred Effective Dates) (69 FR 23858). For most areas of the country, the 8-hour ozone NAAQS designations and classifications became effective on June 15, 2004. For areas participating in the early action compact (EAC) process, EPA deferred the effective date of the designations and classifications until September 30, 2005.¹ In addition, on June 15, 2004, we deferred the effective date of the 8-hour designation for Clark County, Nevada in order to consider additional information submitted by the State (69 FR 34076). We took final action designating and classifying that area on September 10, 2004, with an effective date of September 13, 2004 (69 FR 55956).

¹ If such areas continue to meet the milestones provided in our regulations (40 CFR 81.300), EPA plans to extend the effective date of designation for these areas until EPA can determine in early 2008 whether such areas attained the 8-hour ozone NAAQS by December 31, 2007. For more details on this process, see 69 FR 84 23864-23872.

II. What Is the Purpose of This Rule?

The purpose of this rule is to revise the 1-hour ozone NAAQS tables in 40 CFR part 81 to reflect the application of our revocation rule at 40 CFR 50.9(b). We are revising the tables to indicate for which areas the 1-hour standard has been revoked, but we are retaining the 1-hour ozone NAAQS designation and classification status as of the time of the effective date of designation for the 8-hour NAAQS for purposes of our anti-backsliding regulations at 40 CFR 51.905, which apply after revocation of the 1-hour ozone NAAQS.

In addition, EPA is making two technical corrections to the last sentence in 40 CFR 51.905(c)(1). That sentence currently provides that “40 CFR Part 81, Subpart E identifies the boundaries of areas and the area designations and classifications for the 1-hour NAAQS at the time the 1-hour NAAQS no longer applied to each area.” First, EPA is changing the reference to subpart E of part 81 to instead reference subpart C of part 81. The EPA initially planned to move the 1-hour NAAQS tables to subpart E upon revocation of the 1-hour standard for an area, but has now concluded that it makes more sense to leave the tables in subpart C and to modify the existing tables to identify the areas for which the 1-hour standard has been revoked. Second, we are correcting an error in the last clause of that sentence. That sentence indicates that the tables will reflect an area's 1-hour designation and classification “at the time the 1-hour NAAQS no longer applied” in the area. This language is a remnant from the proposed regulatory text which was released for public comment on August 2, 2003 (68 FR 46536). As explained in the preamble to the Phase 1 Rule, in that final rule, we instead adopted the approach set forth in the June 3, 2003 proposal, which was to retain certain 1-hour obligations that applied as of the date of designation for the 8-hour NAAQS. We made the appropriate changes to other aspects of the regulatory text (see e.g., 51.905(a)(1) and (2)) and indicated in the preamble that this section would refer to the time of designation for the 8-hour standard (69 FR 23984, column 1). We erroneously neglected to change the regulatory text in this section. The purpose of the tables is to identify the areas subject to the anti-backsliding provisions. Since the anti-backsliding provisions apply based on an area's status as of the time of designation for the 8-hour standard, this regulatory provision should indicate that the modified tables in subpart C of part 81 will reflect each area's status as of that date.

III. What Happens to Subparts C and E of Part 81?

Subpart C of part 81 is being amended to add footnotes to the existing 1-hour ozone NAAQS tables for every State in the country. The footnotes indicate whether, and if so when, the 1-hour ozone NAAQS has been revoked for areas within the State. We had previously reserved subpart E of part 81 for the purpose of reflecting where (and when) the 1-hour ozone NAAQS has been revoked. However, we have concluded that it makes more sense to retain and modify the tables in subpart C to include the necessary information. Therefore, we are eliminating the reservation of subpart E in our regulatory text.

This action is not subject to the notice-and-comment requirements of the Administrative Procedure Act. Today's action codifies regulatory changes that implement the Phase 1 Implementation Rule that was issued after notice-and-comment rulemaking. Notice and comment is unnecessary because the action codifying the areas where the 1-hour standard no longer applies is a straightforward application of the rule based on the regulatory status of areas for the 1-hour ozone standard as of June 15, 2004. Additionally, we are making two technical revisions to § 51.905(c)(1) of our regulations. The decision to retain the tables in subpart C, rather than to move them to subpart E has no practical effect on any party or area. This decision is for administrative ease of EPA and there are no regulatory implications for any other party. We are also revising the regulatory language to correct an oversight in our conversion of the draft regulatory text to the final regulation. It was clear from our preamble statements and from our definition of “applicable requirements” that this regulatory text should reflect the date an area was designated for the 8-hour standard rather than the date of revocation of the 1-hour standard. Thus, notice and comment is unnecessary for these revisions as well. Finally, we note that the regulatory implications of revocation of the 1-hour standard and of the anti-backsliding provisions were established in the Phase 1 Rule. The regulatory changes being made today are for the purpose of ensuring that other portions of the Code of Federal Regulations accurately reflect the status of areas as modified through the Phase 1 Rule. Thus, it is in the public interest to make this information available without a protracted notice-and-comment process.

IV. Statutory and Executive Order Reviews

A. Executive Order 12866: Regulatory Planning and Review

Under Executive Order 12866 (58 FR 51735, October 4, 1993), the Agency must determine whether the regulatory action is “significant” and, therefore, subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Pursuant to the terms of Executive Order 12866, it has been determined that this rule is not a “significant regulatory action” because none of the above factors applies. As such, this final rule was not formally submitted to OMB for review.

B. Paperwork Reduction Act

This action does not impose an information collection burden under the provisions of the Paperwork Reduction Act, 44 U.S.C. 3501 et seq. This final action to identify 1-hour ozone areas where the 1-hour standard is no longer applicable as of June 15, 2005 and the boundaries of the 1-hour ozone areas and their respective designations and classifications as of June 15, 2004 does not require the collection of any information.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers of EPA's regulations in 40 CFR are listed in 40 CFR part 9.

C. Regulatory Flexibility Act

Today's final rule is not subject to the Regulatory Flexibility Act (RFA), which generally requires an agency to prepare a regulatory flexibility analysis for any rule that will have a significant economic impact on a substantial number of small entities. The RFA applies only to rules subject to notice and comment rulemaking requirements under the Administrative Procedure Act (APA) or any other statute. This rule is not subject to notice and comment requirements under the APA or any other statute.

Today's action codifies regulatory changes that implement the Phase 1 Implementation Rule that was issued after notice-and-comment rulemaking. Notice and comment is unnecessary because the action codifying the areas where the 1-hour standard no longer applies is a straightforward application of the rule based on the regulatory status of areas for the 1-hour ozone standard as of June 15, 2004.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any 1 year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's final action does not include a Federal mandate within the meaning of UMRA that may result in expenditures of $100 million or more in any 1 year by either State, local, or Tribal governments in the aggregate or to the private sector, and therefore, is not subject to the requirements of sections 202 and 205 of the UMRA. It does not create new requirements. The EPA's Phase 1 Ozone Implementation Rule established “anti-backsliding” requirements that apply based on the area's 1-hour ozone designation and classification as of designation for the 8-hour NAAQS and provided for revocation of the 1-hour NAAQS 1 year after an area's 8-hour designation. This rule modifies the tables in part 81 to reflect in which areas the 1-hour standard has been revoked and to ensure the tables reflect the area's 1-hour designation and classification status as of the effective date of the area's 8-hour designation.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. The Clean Air Act (CAA) establishes the scheme whereby States take the lead in developing plans to meet the NAAQS. This rule will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This final rule does not have “Tribal implications” as specified in Executive Order 13175. This rule identifies those areas of the country where the 1-hour ozone standard is no longer applicable as of June 15, 2005, pursuant to 40 CFR 50.9(b) and ensures the tables in part 81 reflect the 1-hour ozone designation and classification status of areas as of the effective date of each area's 8-hour designation. The CAA and the Tribal Authority Rule (TAR) give Tribes the opportunity to develop and implement CAA programs such as programs to attain and maintain the 8-hour ozone NAAQS, but leave to the discretion of the Tribe whether to develop these programs and which programs, or appropriate elements of a program, they will adopt. This rule does not affect those provisions of the CAA or the TAR.

This final rule does not have Tribal implications as defined by Executive Order 13175. It does not have a substantial direct effect on one or more Indian Tribes. This rule does not affect the relationship or distribution of power and responsibilities between the Federal government and Indian Tribes. The CAA and the TAR establish the relationship of the Federal government and Tribes in developing plans to attain the NAAQS, and this rule does nothing to modify that relationship. Because this rule does not have Tribal implications, Executive Order 13175 does not apply. Although Executive Order 13175 does not apply to this rule, EPA did communicate to Tribal representatives regarding today's action.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health or safety risk that EPA has reason to believe may have disproportionate effects on children. If the regulatory action meets both criteria, the Agency must evaluate the environmental health or safety effects of the planned rule on children, and explain why the planned regulation is preferable to other potentially effective and reasonably feasible alternatives considered by the Agency.

The final rule is not subject to Executive Order 13045 because it is not economically significant as defined in Executive Order 12866, and because the Agency does not have reason to believe the environmental health risks or safety risks addressed by this rule present a disproportionate risk to children. This rule does not alter any applicable requirements; it merely ensures that the tables in 40 CFR part 81 reflect for which areas the 1-hour standard has been revoked and for these areas the 1-hour designation and classification status of the area as of the time of designation for the 8-hour NAAQS. We evaluated the environmental health or safety effects of the 8-hour ozone NAAQS on children. The results of this risk assessment are contained in the National Ambient Air Quality Standards for Ozone, Final Rule, July 18, 1997 (62 FR 38855-38896; specifically, 62 FR 38854, 62 FR 38860 and 62 FR 38865).

H. Executive Order 13211: Actions That Significantly Affect Energy Supply, Distribution, or Use

This rule is not subject to Executive Order 13211, “Actions That Significantly Affect Energy Supply, Distribution, or Use,” (66 FR 28355, May 22, 2001) because it is not a significant regulatory action under Executive Order 12866.

I. National Technology Transfer Advancement Act

Section 12(d) of the National Technology Transfer Advancement Act of 1995 (NTTAA), Public Law No. 104-113, section 12(d) (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by VCS bodies. The NTTAA directs EPA to provide Congress, through OMB, explanations when the Agency decides not to use available and applicable VCS.

This action does not involve technical standards. Therefore, EPA did not consider the use of any VCS.

J. Executive Order 12898: Federal Actions To Address Environmental Justice in Minority Populations and Low-Income Populations

Executive Order 12898 requires that each Federal agency make achieving environmental justice part of its mission by identifying, and addressing, as appropriate, disproportionate high and adverse human health or environmental effects of its programs, policies, and activities on minorities and low-income populations.

This rule does not raise any environmental justice issues. This rule does not alter any applicable requirements; it merely ensures that the tables in 40 CFR part 81 reflect the status of areas pursuant to EPA's Phase 1 Rule implementing the 8-hour ozone NAAQS. The health and environmental risks associated with ozone were considered in the establishment of the 8-hour NAAQS. The level is designed to be protective with an adequate margin of safety.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

L. Judicial Review

Section 307(b)(1) of the CAA indicates which Federal courts of Appeal have venue for petitions of review of final actions by EPA. This section provides, in part, that petitions for review must be filed in the Court of Appeals for the District of Columbia Circuit (i) when the agency action consists of “nationally applicable regulations promulgated, or final actions taken, by the Administrator” or (ii) when such action is locally or regionally applicable, if “such action is based on a determination of nationwide scope or effect and if in taking such action the Administrator finds and publishes that such action is based on such a determination.”

The actions taken in this rule are “nationally applicable” and of “nationwide scope and effect” within the meaning of section 307(b)(1). This rule modifies the tables in subpart C for each State, as defined in section 301(d) of the CAA. These modifications are being made consistent with 40 CFR 51.905(c), a regulation that applies in the same manner to all areas across the United States. Additionally, EPA is making a technical correction to the last sentence of section 51.905(c) of EPA's Phase 1 Rule.

In the report on the 1977 Amendments that revised section 307(b)(1) of the CAA, Congress noted that the Administrator's determination that an action is of “nationwide scope or effect” would be appropriate for any action that has “scope or effect beyond a single judicial circuit.” H.R. Rep. No. 95-294 at 323, 324, reprinted in 1977 U.S.C.C.A.N. 1402-03. Here, the scope and effect of this rulemaking extend to numerous judicial circuits since the revisions to part C apply to all areas of the country. In these circumstances, section 307(b)(1) and its legislative history calls for the Administrator to find the rule to be of “nationwide scope or effect” and for venue to be in the D.C. Circuit.

Thus, any petitions for review of this action must be filed in the Court of Appeals for the District of Columbia Circuit within 60 days from the date final action is published in the Federal Register.

List of Subjects

40 CFR Part 51

Air pollution control, Intergovernmental relations, Ozone, Particulate matter, Transportation, Volatile organic compounds.

40 CFR Part 81

Environmental protection, Air pollution control, National parks, Wilderness areas.

Dated: July 26, 2005.
Stephen L. Johnson,
Administrator.

For reasons stated in the preamble, parts 51 and 81 of Chapter I, title 40 of the Code of Federal Regulations are amended as follows:

PART 51—[AMENDED]

1. The authority citation for part 51 continues to read as follows:

Authority: 23 U.S.C. 101; 42 U.S.C. 7401-7671q.

2. Section 51.905 is amended by revising the last sentence in paragraph (c)(1) to read as follows:

§ 51.905 How do areas transition from the 1-hour NAAQS to the 8-hour NAAQS and what are the anti-backsliding provisions?

* * * * *

(c) * * *

(1) 40 CFR part 81, subpart C identifies the boundaries of areas and the area designations and classifications for the 1-hour NAAQS in place as of the effective date of designation for the 8-hour NAAQS.

* * * * *

PART 81—[AMENDED]

1. The authority citation for part 81 continues to read as follows:

Authority: 42 U.S.C. 7401, et seq.

Subpart C—[Amended]

2. In § 81.301 the table titled “Alabama—Ozone (1-Hour Standard)” is amended by adding footnote 2 to read as follows:

§ 81.301 Alabama.

* * * * *

Alabama—Ozone (1-Hour Standard) ²

* * * * *

² The 1-hour ozone standard is revoked effective June 15, 2005 for all of Alabama. The Birmingham area is a maintenance area for the 1-hour NAAQS for purposes of 40 CFR part 51 subpart X.

3. In § 81.302 the table titled “Alaska—Ozone (1-Hour Standard)” is amended by adding footnote 2 to read as follows:

§ 81.302 Alaska.

* * * * *

Alaska—Ozone (1-Hour Standard) ²

* * * * *

² The 1-hour ozone standard is revoked effective June 15, 2005 for all areas in Alaska.

4. In § 81.303 the table titled “Arizona—Ozone (1-Hour Standard)” is amended by adding footnote 2 to read as follows:

§ 81.303 Arizona.

* * * * *

Arizona—Ozone (1-Hour Standard) ²

* * * * *

² The 1-hour ozone standard is revoked effective June 15, 2005 for all areas in Arizona.

5. In § 81.304 the table titled “Arkansas—Ozone (1-Hour Standard)” is amended by adding footnote 2 to read as follows:

§ 81.304 Arkansas.

* * * * *

Arkansas—Ozone (1-Hour Standard) ²

* * * * *

² The 1-hour ozone standard is revoked effective June 15, 2005 for all areas in Arkansas.

6. In § 81.305 the table titled “California—Ozone (1-Hour Standard)” is amended by adding footnote 4 to read as follows:

§ 81.305 California.

* * * * *

California—Ozone (1-Hour Standard) ²

* * * * *

² The 1-hour ozone standard is revoked effective June 15, 2005 for all areas in California. The Monterey Bay, San Diego, and Santa Barbara-Santa Maria-Lompoc areas are maintenance areas for the 1-hour NAAQS for purposes of 40 CFR part 51 subpart X.

7. In § 81.306 the table titled “Colorado—Ozone (1-Hour Standard)” is amended by adding footnote 4 to read as follows:

§ 81.306 Colorado.

* * * * *

Colorado—Ozone (1-Hour Standard) ⁴

* * * * *

⁴ The 1-hour ozone standard is revoked effective June 15, 2005 for all areas in Colorado except the Denver (Denver-Boulder-Greeley-Ft.Collins-Love) area.

8. In § 81.307 the table titled “Connecticut—Ozone (1-Hour Standard)” is amended by adding footnote 2 to read as follows:

§ 81.307 Connecticut.

* * * * *

Connecticut—Ozone (1-Hour Standard) ²

* * * * *

² The 1-hour ozone standard is revoked effective June 15, 2005 for all areas in Connecticut.

9. In § 81.308 the table titled “Delaware—Ozone (1-Hour Standard)” is amended by adding footnote 3 to read as follows:

§ 81.308 Delaware.

* * * * *

Delaware—Ozone (1-Hour Standard) ³

* * * * *

³ The 1-hour ozone standard is revoked effective June 15, 2005 for all areas in Delaware.

10. In § 81.309 the table titled “District of Columbia—Ozone (1-Hour Standard)” is amended by adding footnote 2 to read as follows:

§ 81.309 District of Columbia.

* * * * *

District of Columbia—Ozone (1-Hour Standard) ²

* * * * *

² The 1-hour ozone standard is revoked effective June 15, 2005 for all areas in the District of Columbia.

11. In § 81.310 the table titled “Florida—Ozone (1-Hour Standard)” is amended by adding footnote 2 to read as follows:

§ 81.310 Florida.

* * * * *

Florida—Ozone (1-Hour Standard) ²

* * * * *

² The 1-hour ozone standard is revoked effective June 15, 2005 for all areas in Florida. The Jacksonville, Miami-Fort Lauderdale-W. Palm Beach, and Tampa-St. Petersburg-Clearwater areas are maintenance areas for the 1-hour NAAQS for purposes of 40 CFR part 51 subpart X.

12. In § 81.311 the table titled “Georgia—Ozone (1-Hour Standard)” is amended by adding footnote 2 to read as follows:

§ 81.311 Georgia.

* * * * *

Georgia—Ozone (1-Hour Standard) ²

* * * * *

² The 1-hour ozone standard is revoked effective June 15, 2005 for all areas in Georgia except the Chattanooga (Catoosa Co.) area.

13. In § 81.312 the table titled “Hawaii—Ozone (1-Hour Standard)” is amended by adding footnote 2 to read as follows:

§ 81.312 Hawaii.

* * * * *

Hawaii—Ozone (1-Hour Standard) ²

* * * * *

² The 1-hour ozone standard is revoked effective June 15, 2005 for all areas in Hawaii.

14. In § 81.313 the table titled “Idaho—Ozone (1-Hour Standard)” is amended by adding footnote 2 to read as follows:

§ 81.313 Idaho.

* * * * *

Idaho—Ozone (1-Hour Standard) ²

* * * * *

² The 1-hour ozone standard is revoked effective June 15, 2005 for all areas in Idaho.

15. In § 81.314 the table titled “Illinois—Ozone (1-Hour Standard)” is amended by adding footnote 3 to read as follows:

§ 81.314 Illinois.

* * * * *

Illinois—Ozone (1-Hour Standard) ³

* * * * *

³ The 1-hour ozone standard is revoked effective June 15, 2005 for all areas in Illinois. The Jersey Co. and St. Louis areas are maintenance areas for the 1-hour NAAQS for purposes of 40 CFR part 51 subpart X.

16. In § 81.315 the table titled “Indiana—Ozone (1-Hour Standard)” is amended by adding footnote 2 to read as follows:

§ 81.315 Indiana.

* * * * *

Indiana—Ozone (1-Hour Standard) ²

* * * * *

² The 1-hour ozone standard is revoked effective June 15, 2005 for all areas in Indiana. The Evansville, Indianapolis, Louisville, and South Bend-Elkhart areas are maintenance areas for the 1-hour NAAQS for purposes of 40 CFR part 51 subpart X.

17. In § 81.316 the table titled “Iowa—Ozone (1-Hour Standard)” is amended by adding footnote 2 to read as follows:

§ 81.316 Iowa.

* * * * *

Iowa—Ozone (1-Hour Standard) ²

* * * * *

² The 1-hour ozone standard is revoked effective June 15, 2005 for all areas in Iowa.

18. In § 81.317 the table titled “Kansas—Ozone (1-Hour Standard)” is amended by adding footnote 2 to read as follows:

§ 81.317 Kansas.

* * * * *

Kansas—Ozone (1-Hour Standard) ²

* * * * *

² The 1-hour ozone standard is revoked effective June 15, 2005 for all areas in Kansas. The Kansas City area is a maintenance area for the 1-hour NAAQS for purposes of 40 CFR part 51 subpart X.

19. In § 81.318 the table titled “Kentucky—Ozone (1-Hour Standard)” is amended by adding footnote 2 to read as follows:

§ 81.318 Kentucky.

* * * * *

Kentucky—Ozone (1-Hour Standard) ²

* * * * *

² The 1-hour ozone standard is revoked effective June 15, 2005 for all areas in Kentucky. The Cincinnati-Hamilton, Edmonson Co, Huntington-Ashland, Lexington-Fayette, Louisville, Owensboro, and Paducah areas are maintenance areas for the 1-hour NAAQS for purposes of 40 CFR part 51 subpart X.

20. In § 81.319 the table titled “Louisiana—Ozone (1-Hour Standard)” is amended by adding footnote 2 to read as follows:

§ 81.319 Louisiana.

* * * * *

Louisiana—Ozone (1-Hour Standard) ²

* * * * *

² The 1-hour ozone standard is revoked effective June 15, 2005 for all areas in Louisiana. The Lafayette, Lake Charles, New Orleans, Pointe Coupee Parish, Beauregard Par, Grant Par, LaFourche Par, St James Par, and St Mary Par areas are maintenance areas for the 1-hour NAAQS for purposes of 40 CFR part 51 subpart X.

21. In § 81.320 the table titled “Maine—Ozone (1-Hour Standard)” is amended by adding footnote 4 to read as follows:

§ 81.320 Maine.

* * * * *

Maine—Ozone (1-Hour Standard) ⁴

* * * * *

⁴ The 1-hour ozone standard is revoked effective June 15, 2005 for all areas in Maine. Hancock and Waldo Counties are maintenance areas for the 1-hour NAAQS for purposes of 40 CFR part 51 subpart X.

22. In § 81.321 the table titled “Maryland—Ozone (1-Hour Standard)” is amended by adding footnote 2 to read as follows:

§ 81.321 Maryland.

* * * * *

Maryland—Ozone (1-Hour Standard) ²

* * * * *

² The 1-hour ozone standard is revoked effective June 15, 2005 for all areas in Maryland except the Washington Co. area.

23. In § 81.322 the table titled “Massachusetts—Ozone (1-Hour Standard)” is amended by adding footnote 3 to read as follows:

§ 81.322 Massachusetts.

* * * * *

Massachusetts—Ozone (1-Hour Standard) ³

* * * * *

³ The 1-hour ozone standard is revoked effective June 15, 2005 for all areas in Massachusetts.

24. In § 81.323 the table titled “Michigan—Ozone (1-Hour Standard)” is amended by adding footnote 4 to read as follows:

§ 81.323 Michigan.

* * * * *

Michigan—Ozone (1-Hour Standard) ⁴

* * * * *

⁴ The 1-hour ozone standard is revoked effective June 15, 2005 for all areas in Michigan. The Detroit-Ann Arbor, Flint, Grand Rapids, Muskegon, Allegan Co, and Saginaw-Bay City-Midland areas are maintenance areas for the 1-hour NAAQS for purposes of 40 CFR part 51 subpart X.

25. In § 81.324 the table titled “Minnesota—Ozone (1-Hour Standard)” is amended by adding footnote 2 to read as follows:

§ 81.324 Minnesota.

* * * * *

Minnesota—Ozone (1-Hour Standard) ²

* * * * *

² The 1-hour ozone standard is revoked effective June 15, 2005 for all areas in Minnesota.

26. In § 81.325 the table titled “Mississippi—Ozone (1-Hour Standard)” is amended by adding footnote 2 to read as follows:

§ 81.325 Mississippi.

* * * * *

Mississippi—Ozone (1-Hour Standard) ²

* * * * *

² The 1-hour ozone standard is revoked effective June 15, 2005 for all areas in Mississippi.

27. In § 81.326 the table titled “Missouri—Ozone (1-Hour Standard)” is amended by adding footnote 2 to read as follows:

§ 81.326 Missouri.

* * * * *

Missouri—Ozone (1-Hour Standard) ²

* * * * *

² The 1-hour ozone standard is revoked effective June 15, 2005 for all areas in Missouri. The Kansas City and St. Louis areas are maintenance areas for the 1-hour NAAQS for purposes of 40 CFR part 51 subpart X.

28. In § 81.327 the table titled “Montana—Ozone (1-Hour Standard)” is amended by adding footnote 2 to read as follows:

§ 81.327 Montana.

* * * * *

Montana—Ozone (1-Hour Standard) ²

* * * * *

² The 1-hour ozone standard is revoked effective June 15, 2005 for all areas in Montana.

29. In § 81.328 the table titled “Nebraska—Ozone (1-Hour Standard)” is amended by adding footnote 2 to read as follows:

§ 81.328 Nebraska.

* * * * *

Nebraska—Ozone (1-Hour Standard) ²

* * * * *

² The 1-hour ozone standard is revoked effective June 15, 2005 for all areas in Nebraska.

30. In § 81.329 the table titled “Nevada—Ozone (1-Hour Standard)” is amended by adding footnote 3 to read as follows:

§ 81.329 Nevada.

* * * * *

Nevada—Ozone (1-Hour Standard) ³

* * * * *

³ The 1-hour ozone standard is revoked effective June 15, 2005 for all areas in Nevada except the portion of Clark County designated nonattainment for the 8-hour ozone standard effective September 13, 2004 for which the 1-hour ozone standard is revoked effective September 13, 2005.

31. In § 81.330 the table titled “New Hampshire—Ozone (1-Hour Standard)” is amended by adding footnote 3 to read as follows:

§ 81.330 New Hampshire.

* * * * *

New Hampshire—Ozone (1-Hour Standard) ³

* * * * *

³ The 1-hour ozone standard is revoked effective June 15, 2005 for all areas in New Hampshire.

32. In § 81.331 the table titled “New Jersey—Ozone (1-Hour Standard)” is amended by adding footnote 3 to read as follows:

§ 81.331 New Jersey.

* * * * *

New Jersey—Ozone (1-Hour Standard) ³

* * * * *

³ The 1-hour ozone standard is revoked effective June 15, 2005 for all areas in New Jersey.

33. In § 81.332 the table titled “New Mexico—Ozone (1-Hour Standard)” is amended by adding footnote 2 to read as follows:

§ 81.332 New Mexico.

* * * * *

New Mexico—Ozone (1-Hour Standard) ²

* * * * *

² The 1-hour ozone standard is revoked effective June 15, 2005 for all areas in New Mexico.

34. In § 81.333 the table titled “New York—Ozone (1-Hour Standard)” is amended by adding footnote 3 to read as follows:

§ 81.333 New York.

* * * * *

New York—Ozone (1-Hour Standard) ³

* * * * *

³ The 1-hour ozone standard is revoked effective June 15, 2005 for all areas in New York.

35. In § 81.334 the table titled “North Carolina—Ozone (1-Hour Standard)” is amended by adding footnote 2 to read as follows:

§ 81.334 North Carolina.

* * * * *

North Carolina—Ozone (1-Hour Standard) ²

* * * * *

² The 1-hour ozone standard is revoked effective June 15, 2005 for all areas in North Carolina except the Cumberland Co. (Fayetteville), Triad (Greensboro-Winston-Salem-High Point), and Unifour (Hickory-Morganton-Lenoir) areas. The Charlotte-Gastonia and Raleigh-Durham areas are maintenance areas for the 1-hour NAAQS for purposes of 40 CFR part 51 subpart X.

36. In § 81.335 the table titled “North Dakota—Ozone (1-Hour Standard)” is amended by adding footnote 2 to read as follows:

§ 81.335 North Dakota.

* * * * *

North Dakota—Ozone (1-Hour Standard) ²

* * * * *

² The 1-hour ozone standard is revoked effective June 15, 2005 for all areas in North Dakota.

37. In § 81.336 the table titled “Ohio—Ozone (1-Hour Standard)” is amended by adding footnote 3 to read as follows:

§ 81.336 Ohio.

* * * * *

Ohio—Ozone (1-Hour Standard) ³

* * * * *

³ The 1-hour standard is revoked effective June 15, 2005 for all areas in Ohio. The Canton, Cleveland-Akron-Lorain, Clinton Co, Columbus, Dayton-Springfield, Preble Co, Steubenville, Toledo, Youngstown-Warren-Sharon, and Columbiana Co. areas are maintenance areas for the 1-hour NAAQS for purposes of 40 CFR part 51 subpart X.

38. In § 81.337 the table titled “Oklahoma—Ozone (1-Hour Standard)” is amended by adding footnote 2 to read as follows:

§ 81.337 Oklahoma.

Oklahoma—Ozone (1-Hour Standard) ²

* * * * *

² The 1-hour ozone standard is revoked effective June 15, 2005 for all areas in Oklahoma.

39. In § 81.338 the table titled “Oregon—Ozone (1-Hour Standard)” is amended by adding footnote 3 to read as follows:

§ 81.338 Oregon.

* * * * *

Oregon—Ozone (1-Hour Standard) ³

* * * * *

³ The 1-hour ozone standard is revoked effective June 15, 2005 for all areas in Oregon. Portland-Vancouver AQMA is a maintenance area for the 1-hour NAAQS for purposes of 40 CFR part 51 subpart X.

40. In § 81.339 the table titled “Pennsylvania—Ozone (1-Hour Standard)” is amended by adding footnote 4 to read as follows:

§ 81.339 Pennsylvania.

* * * * *

Pennsylvania—Ozone (1-Hour Standard) ⁴

* * * * *

⁴ The 1-hour ozone standard is revoked effective June 15, 2005 for all areas in Pennsylvania. The Pittsburgh-Beaver Valley and Reading areas are maintenance areas for the 1-hour NAAQS for purposes of 40 CFR part 51 subpart X.

41. In § 81.340 the table titled “Rhode Island—Ozone (1-Hour Standard)” is amended by adding footnote 2 to read as follows:

§ 81.340 Rhode Island.

* * * * *

Rhode Island—Ozone (1-Hour Standard) ²

* * * * *

² The 1-hour ozone standard is revoked effective June 15, 2005 for all areas in Rhode Island.

42. In § 81.341 the table titled “South Carolina—Ozone (1-Hour Standard)” is amended by adding footnote 2 to read as follows:

§ 81.341 South Carolina.

* * * * *

South Carolina—Ozone (1-Hour Standard) ²

* * * * *

² The 1-hour ozone standard is revoked effective June 15, 2005 for all areas in South Carolina except the Central Midlands-I (Columbia) and Appalachian-A (Greenville-Spartanburg-Anderson) areas. Cherokee Co. is a maintenance area for the 1-hour NAAQS for purposes of 40 CFR part 51 subpart X.

43. In § 81.342 the table titled “South Dakota—Ozone (1-Hour Standard)” is amended by adding footnote 2 to read as follows:

§ 81.342 South Dakota.

* * * * *

South Dakota—Ozone (1-Hour Standard) ²

* * * * *

² The 1-hour ozone standard is revoked effective June 15, 2005 for all areas in South Dakota.

44. In § 81.343 the table titled “Tennessee—Ozone (1-Hour Standard)” is amended by adding footnote 2 to read as follows:

§ 81.343 Tennessee.

* * * * *

Tennessee—Ozone (1-Hour Standard) ²

* * * * *

² The 1-hour ozone standard is revoked effective June 15, 2005 for all areas in Tennessee except the Chattanooga, Johnson City-Kingsport-Bristol, and Nashville areas. Knoxville and Memphis are maintenance areas for the 1-hour NAAQS for purposes of 40 CFR part 51 subpart X.

45. In § 81.344 the table titled “Texas—Ozone (1-Hour Standard)” is amended by adding footnote 2 to read as follows:

§ 81.344 Texas.

* * * * *

Texas—Ozone (1-Hour Standard) ²

* * * * *

² The 1-hour ozone standard is revoked effective June 15, 2005 for all areas in Texas except the San Antonio area. The Victoria area is a maintenance area for the 1-hour NAAQS for purposes of 40 CFR part 51 subpart X.

46. In § 81.345 the table titled “Utah—Ozone (1-Hour Standard)” is amended by adding footnote 2 to read as follows:

§ 81.345 Utah.

* * * * *

Utah—Ozone (1-Hour Standard) ²

* * * * *

² The 1-hour ozone standard is revoked effective June 15, 2005 for all areas in Utah. The Salt Lake City area is a maintenance area for the 1-hour NAAQS for purposes of 40 CFR part 51 subpart X.

47. In § 81.346 the table titled “Vermont—Ozone (1-Hour Standard)” is amended by adding footnote 2 to read as follows:

§ 81.346 Vermont.

* * * * *

Vermont—Ozone (1-Hour Standard) ²

* * * * *

² The 1-hour ozone standard is revoked effective June 15, 2005 for all areas in Vermont.

48. In § 81.347 the table titled “Virginia—Ozone (1-Hour Standard)” is amended by adding footnote 3 to read as follows:

§ 81.347 Virginia.

* * * * *

Virginia—Ozone (1-Hour Standard) ³

* * * * *

³ The 1-hour ozone standard is revoked effective June 15, 2005 for all areas in Virginia except Northern Shenandoah Valley Region (Winchester City and Frederick County) and Roanoke areas. The Norfolk-Virginia Beach-Newport News and Richmond Areas are maintenance areas for the 1-hour NAAQS for purposes of 40 CFR part 51 subpart X.

49. In § 81.348 the table titled “Washington—Ozone (1-Hour Standard)” is amended by adding footnote 2 to read as follows:

§ 81.348 Washington.

* * * * *

Washington—Ozone (1-Hour Standard) ²

* * * * *

² The 1-hour ozone standard is revoked effective June 15, 2005 for all areas in Washington. The Portland-Vancouver AQMA and Seattle-Tacoma areas are maintenance areas for the 1-hour NAAQS for purposes of 40 CFR part 51 subpart X.

50. In § 81.349 the table titled “West Virginia—Ozone (1-Hour Standard)” is amended by adding footnote 2 to read as follows:

§ 81.349 West Virginia.

* * * * *

West Virginia—Ozone (1-Hour Standard) ²

* * * * *

² The 1-hour ozone standard is revoked effective June 15, 2005 for all areas in West Virginia except the Eastern Pan Handle Region (Berkeley and Jefferson Counties). The Charleston, Greenbrier Co., Huntington-Ashland, and Parkersburg areas are maintenance areas for the 1-hour NAAQS for purposes of 40 CFR part 51 subpart X.

51. In § 81.350 the table titled “Wisconsin—Ozone (1-Hour Standard)” is amended by adding footnote 4 to read as follows:

§ 81.350 Wisconsin.

* * * * *

Wisconsin—Ozone (1-Hour Standard) ⁴

* * * * *

⁴ The 1-hour ozone standard is revoked effective June 15, 2005 for all areas in Wisconsin. The Door Co., Kewaunee Co., Manitowoc Co., Sheboygan, and Walworth Co. areas are maintenance areas for the 1-hour NAAQS for purposes of 40 CFR part 51 subpart X.

52. In § 81.351 the table titled “Wyoming—Ozone (1-Hour Standard)” is amended by adding footnote 2 to read as follows:

§ 81.351 Wyoming.

* * * * *

Wyoming—Ozone (1-Hour Standard) ²

* * * * *

² The 1-hour ozone standard is revoked effective June 15, 2005 for all areas in Wyoming.

53. In § 81.352 the table titled “American Samoa—Ozone (1-Hour Standard)” is amended by adding footnote 2 to read as follows:

§ 81.352 American Samoa.

* * * * *

American Samoa—Ozone (1-Hour Standard) ²

* * * * *

² The 1-hour ozone standard is revoked effective June 15, 2005 for all areas in American Samoa.

54. In § 81.353 the table titled “Guam—Ozone (1-Hour Standard)” is amended by adding footnote 2 to read as follows:

§ 81.353 Guam.

* * * * *

Guam—Ozone (1-Hour Standard) ²

* * * * *

² The 1-hour ozone standard is revoked effective June 15, 2005 for all areas in Guam.

55. In § 81.354 the table titled “Northern Mariana Islands—Ozone (1-Hour Standard)” is amended by adding footnote 2 to read as follows:

§ 81.354 Northern Mariana Islands.

* * * * *

Northern Mariana Islands—Ozone (1-Hour Standard) ²

* * * * *

² The 1-hour ozone standard is revoked effective June 15, 2005 for all areas in Northern Mariana Islands.

56. In § 81.355 the table titled “Puerto Rico—Ozone (1-Hour Standard)” is amended by adding footnote 2 to read as follows:

§ 81.355 Puerto Rico.

* * * * *

Puerto Rico—Ozone (1-Hour Standard) ²

* * * * *

² The 1-hour ozone standard is revoked effective June 15, 2005 for all areas in Puerto Rico.

57. In § 81.356 the table titled “Virgin Islands—Ozone (1-Hour Standard)” is amended by adding footnote 2 to read as follows:

§ 81.356 Virgin Islands.

* * * * *

Virgin Islands—Ozone (1-Hour Standard) ²

* * * * *

² The 1-hour ozone standard is revoked effective June 15, 2005 for all areas in the Virgin Islands.

58. Subpart E is removed.

[FR Doc. 05-15218 Filed 8-2-05; 8:45 am]

BILLING CODE 6560-50-P